DEPARTMENT OF AGRICULTURE

Forest Service

Opal Creek Scenic Recreation Area (SRA) Advisory Council

AGENCY: Forest Service, USDA.

ACTION: Notice.

SUMMARY: The Willamette National Forest is seeking nominees for five positions on the Opal Creek Advisory Council. The Council was originally established in June 2000 with 13 members. About half of the current members will remain on the Council to provide continuity for new members.

The Advisory Council makes recommendations to the Detroit District Ranger on matters relating to the management of the Opal Creek Scenic Recreation Area (SRA). The Advisory Council is composed of a diverse group of citizens, which allows for sharing of technical knowledge and personal experience. Members represent interests including, but not limited to: timber industry; environmental organizations; mining industry; land inholders within the Opal Creek Wilderness and SRA; economic development interests; and Indian tribes. Other members serving on the Council as required by the Act represent Marion County, communities within a 25 mile radius of the SRA, State of Oregon, and City of Salem.

Positions to be filled are from timber industry, in-holders, environmental organizations, mining industry and one at-large member. Examples of “at-large” members who may be interested in serving on this Council include recreation interests, adjacent landowner, educators and researchers.

Nominees must be United States citizens, at least 18 years old. Willamette officials will recommend nominees' appointments to the Secretary of Agriculture based on criteria which includes long-time familiarity with the Opal Creek SRA, knowledge and understanding of other cultures, ability to actively participate in diverse team settings, and respect and credibility in local communities.

Nominations are due September 19, 2005. People interested in more information or a nomination packet should contact the Detroit Ranger District at 503-854-3366. The nomination packet can also be downloaded from the Opal Creek Advisory Council section of the Willamette National Forest Web site: http://www.fs.fed.us/r6/willamette/manage/opalcreek/index.html.

Dated: August 18, 2005.
Y. Robert Iwamoto,
Deputy Forest Supervisor.

[FR Doc. 05-16819 Filed 8-23-05; 8:45 am]

BILLING CODE 3410-11-M